DEPARTMENT OF AGRICULTURE

Forest Service

California Coast Provincial Advisory Committee (PAC)

AGENCY: Forest Service, USDA.

ACTION: Request for nominations of people to serve on the California Coast Provincial Advisory Committee.

SUMMARY: The federal government interagency group responsible for implementing the Northwest Forest Plan (NFP) in the California Coast Province is seeking nominations for persons to fill two vacant positions on the California Coast Provincial Advisory Committee (CCPAC)—one to represent the large forest products industry, and one to represent tourism interests to help achieve the implementation of the NFP.

SUPPLEMENTARY INFORMATION: The CCPAC works with federal agencies to implement the NFP on federal lands in the California Coast Province. The advisory committee provides advice to the Province Interagency Executive Committee (PIEC) regarding implementation of a comprehensive ecosystem management strategy for federal lands within the province. While the boundary of the province includes whole river drainages for broad ecosystem planning, the purpose of the PAC is to assist in implementing the NFP, which is limited to federal lands within the range of the northern spotted owl. Advisory committee recommendations are not legally binding and will not supersede the legally established decision authority granted to the federal agencies involved. All advisory committee meetings are open to the public. Interested citizens may request time on the agenda to address the committee. All papers and documents used by the committee, including meeting minutes, are available to the public.

Applicants must be United States citizens, at least 18 years old, and will be recommended for appointment based on their personal knowledge of local and regional resource issues, and understanding of public land uses and activities; willingness to work toward mutually beneficial solutions to complex issues; respect and credibility in local communities; and commitment to attending advisory committee meetings held for the province.

Advisory committee members must be willing to travel to meetings held throughout the province. Members will serve without pay, but reimbursement of travel and per diem is allowed for attendance at meetings called by the Chairperson of the advisory committee.

DATES: The due date for receipt of the nominations is August 15, 2000.

FOR FURTHER INFORMATION CONTACT: Individuals with questions about the process or wishing to submit nominations for one of the positions should contact one of the following for a nomination packet: James Fenwood, Forest Supervisor, or Phebe Brown, Province Coordinator; USDA, Mendocino National Forest, 825 N. Humboldt Avenue, Willows, CA, 95988; (530) 934-3316, TTY (530) 934-7724; FAX (530) 934-7384.

Dated: July 17, 2000.
James D. Fenwood,
Forest Supervisor.

[FR Doc. 00-18918 Filed 7-25-00; 8:45 am]

BILLING CODE 3410-11-M